DEPARTMENT OF VETERANS AFFAIRS

[OMB Control No. 2900-0188]

Proposed Information Collection (Claim, Authorization and Invoice for Prosthetic Items and Services) Activity: Comment Request

Correction

In notice document 2010-18814 beginning on page 45206 in the issue of Monday, August 2, 2010, make the following correction:

On page 45206, in the second column, under the DATES heading, in the fifth and sixth lines, “September 1, 2010” should read “October 1, 2010”.

[FR Doc. C1-2010-18814 Filed 8-5-10; 8:45 am]

BILLING CODE 1505-01-D